DEPARTMENT OF HEALTH AND HUMAN SERVICES

National Institutes of Health

Government-Owned Inventions; Availability for Licensing

AGENCY: National Institutes of Health, Public Health Service, HHS

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Method for Inducing T-Cell Proliferation

Description of Technology: This technology relates to the use of thymic stromal lymphopoietin (TSLP) to induce CD4+ T cell proliferation. This proliferation could be of particular relevance for patients in whom this cell population has been significantly reduced by HIV/AIDS or other conditions resulting in immunodeficiency. The proliferation of isolated CD4+ T cells can be induced through direct contact with TSLP or a nucleic acid encoding TSLP. The patent application also describes methods of inducing or enhancing an immune response through administration of CD4+ T cells that have been isolated and induced to proliferate using TSLP or a nucleic acid encoding TSLP. TSLPR knockout mice are also described in the patent application and available for licensing through a biological materials license agreement.

Applications: Immunotherapy.

Development Status: Animal (mouse) data available.

Inventor: Warren J. Leonard et al. (NHLBI).

Patent Status: U.S. Provisional Application No. 60/555,898 filed 23 Mar 2004 (HHS Reference No. E-104-2004/0-US-01); U.S. Utility Application No. 11/762,357 filed 13 June 2007 (HHS Reference No. E-104-2004/1-US-02).

Licensing Status: Available for licensing.

Licensing Contact: Susan Ano, Ph.D.; 301/435-5515; anos@mail.nih.gov.

Retrovirus-Like Particles as Vaccines and Immunogens

Description of Technology: This technology describes retrovirus-like particles and their production from retroviral constructs in which the gene encoding of all but seven amino acids of the nucleocapsid (NC) protein was deleted. NC is critical for both genomic RNA packaging into the virion and viral integration into the host cell. Therefore, this deletion functionally eliminates two essential steps in retrovirus replication, thereby resulting in non-infectious retrovirus-like particles that maintain their full complement of antigenic proteins. Furthermore, efficient formation of these particles requires inhibition of the protease enzymatic activity, either by mutation to the protease gene in the construct or by protease inhibitor thereby ensuring the production of non-infectious retrovirus-like particles by altering two independent targets. These particles can be used in vaccines or immunogenic compositions. Specific examples using HIV-1 constructs are given.

Applications: Retroviral vaccine; Immunogenic compositions.

Development Status: In vitro data available.

Inventor: David E. Ott (NCI).

Publications:

1. DE Ott et al. Elimination of protease activity restores efficient virion production to a human immunodeficiency virus type 1 nucleocapsid deletion mutant. J Virol. 2003 May;77(10):5547-5556.

2. DE Ott et al. Redundant roles for nucleocapsid and matrix RNA-binding sequences in human immunodeficiency virus type 1 assembly. J Virol. 2005 Nov;79(22), 13839-13847.

Patent Status: U.S. Patent Application No. 11/413,614 filed 27 Apr 2006 (HHS Reference No. E-236-2003/0-US-02).

Licensing Status: Available for non-exclusive or exclusive licensing.

Licensing Contact: Susan Ano, Ph.D.; 301/435-5515; anos@mail.nih.gov.

Collaborative Research Opportunity: The NCI, CCR, AIDS Vaccine Program is seeking statements of capability or interest from parties interested in collaborative research to further develop, evaluate, or commercialize whole retrovirus-like particle vaccines. Please contact John D. Hewes, Ph.D. at 301-435-3121 or hewesj@mail.nih.gov for more information.

Potent HIV-1 Entry Inhibitors and Immunogens

Description of Technology: This technology relates to HIV antigenic constructs with flexible, heterologous linkers joining gp120 and gp41. The HIV-1 envelope Glycoprotein (Env) undergoes conformational changes while driving entry. The inventors developed these constructs to mimic some of the intermediate Env conformations. Tethered molecules of the invention were stable and potently inhibited cell fusion. Both gp120 and gp41 contain epitopes that may be necessary for the immune system to mount a robust and effective immune response to HIV. By connecting the two components, the current invention stabilizes the exposure of conserved epitopes, thereby increasing the chances that antibodies will form that react with these sites.

Applications: HIV vaccine.

Development Status: In vitro data available.

Inventors: Dimiter S. Dimitrov et al. (NCI).

Patent Status: U.S. Utility Application No. 10/506,651 filed 02 Sept 2004 (HHS Reference No. E-039-2002/0-US-02).

Licensing Status: Available for exclusive or non-exclusive licensing.

Licensing Contact: Susan Ano, Ph.D.; 301/435-5515; anos@mail.nih.gov.

Collaborative Research Opportunity: The National Cancer Institute's Nanobiology Program is seeking statements of capability or interest from parties interested in collaborative research to further develop or evaluate immune response constructs. Please contact John D. Hewes, Ph.D. at 301-435-3121 or hewesj@mail.nih.gov for more information.

Dated: October 10, 2007.
Steven M. Ferguson,
Director, Division of Technology Development and Transfer, Office of Technology Transfer, National Institutes of Health.

[FR Doc. E7-20518 Filed 10-16-07; 8:45 am]

BILLING CODE 4140-01-P